OFFICE OF GOVERNMENT ETHICS

Agency Information Collection Activities; Submission for OMB Review; Proposed Collection; Comment Request for an Unmodified OGE Form 201 Ethics Act Access Form

AGENCY: Office of Government Ethics (OGE).

ACTION: Notice of request for agency and public comments.

SUMMARY: After publication of this second round notice, OGE plans to submit an unmodified OGE Form 201 Ethics Act Access Form to the Office of Management and Budget (OMB) for review and approval of a three-year extension under the Paperwork Reduction Act of 1995 (44 U.S.C. chapter 35).

DATES: Written comments by the public and the agencies on this proposed extension are invited and must be received by March 4, 2010.

ADDRESSES: Comments may be submitted, identified by the title of the information collection activity, to the Office of Information and Regulatory Affairs, Attn: Ms. Sharon Mar, OMB Desk Officer for the Office of Government Ethics, by either of the following methods within 30 days from the date of publication in this Federal Register:

Fax: 202-395-6974, Attn: Ms. Sharon Mar, OMB Desk Officer for the Office of Government Ethics;

E-mail: smar@omb.eop.gov.

FOR FURTHER INFORMATION CONTACT: Paul Ledvina at the Office of Government Ethics; telephone: 202-482-9247; TTY: 800-877-8339; FAX: 202-482-9237; E-mail: paul.ledvina@oge.gov. An electronic copy of the OGE Form 201 is available in the Forms Library section of OGE's Web site at http://www.usoge.gov. A paper copy may also be obtained, without charge, by contacting Mr. Ledvina.

SUPPLEMENTARY INFORMATION:

Title: Request to Inspect or Receive Copies of SF 278 Executive Branch Personnel Public Financial Disclosure Reports or Other Covered Records.

Agency Form Number: OGE Form 201.

OMB Control Number: 3209-0002.

Type of Information Collection: Extension without change of a currently approved collection.

Type of Review Request: Regular.

Respondents: Individuals requesting access to executive branch public financial disclosure reports and other covered records.

Estimated Annual Number of Respondents: 450.

Estimated Time per Response: 10 minutes.

Estimated Total Annual Burden: 75 hours.

Abstract: The OGE Form 201 collects information from, and provides certain information to, persons who seek access to SF 278 Public Financial Disclosure Reports and other covered records. The form reflects the requirements of the Ethics Act and OGE's implementing regulations that must be met by a person before access can be granted. These requirements relate to information collected about the identity of the requester, as well as any other person on whose behalf a record is sought, and notification of prohibited uses of SF 278 reports. See section 105 (b) and (c) of the Ethics Act, 5 U.S.C. appendix § 105 (b) and (c), and 5 CFR 2634.603 (c) and (f) of OGE's executive branchwide regulations. Executive branch departments and agencies are encouraged to utilize the OGE Form 201. OGE permits departments and agencies to use or develop their own forms as long as the forms collect and provide all of the required information. Request for Comments: OGE published a first round notice of its intent to request paperwork clearance for the proposed unmodified OGE Form 201 Ethics Act Access Form. See 74 FR 59185-59186. OGE received no responses to that notice. Agency and public comment is again invited specifically on the need for and practical utility of this information collection, the accuracy of OGE's burden estimate, the enhancement of quality, utility and clarity of the information collected, and the minimization of burden (including the use of information technology). Comments received in response to this notice will be summarized for, and may be included with, the OGE request for extension of OMB paperwork approval. The comments will also become a matter of public record.

Approved: January 27, 2010.
Robert I. Cusick,
Director, Office of Government Ethics.

[FR Doc. 2010-2172 Filed 2-1-10; 8:45 am]

BILLING CODE 6345-03-P